CONSUMER PRODUCT SAFETY COMMISSION

[Docket No. CPSC-2018-0002]

Agency Information Collection Activities; Submission for OMB Review; Comment Request—Survey on Smoke and Carbon Monoxide Alarms

AGENCY: Consumer Product Safety Commission.

ACTION: Notice.

SUMMARY: As required by the Paperwork Reduction Act of 1995 (44 U.S.C. Chapter 35), the Consumer Product Safety Commission (CPSC) announces that CPSC has submitted to the Office of Management and Budget (OMB), a new proposed collection of information by the agency on a survey that will estimate the use of smoke and carbon monoxide (CO) alarms in United States households. In the Federal Register of March 20, 2018 (83 FR 12178), CPSC published a notice announcing the agency's intent to seek approval of this collection of information. CPSC received several comments in response to that notice. After review and consideration of the comments, by publication of this notice, the Commission announces that CPSC has submitted to the OMB a request for approval of this collection of information.

DATES: Written comments on this request for approval of information collection requirements should be submitted by August 1, 2018.

ADDRESSES: Submit comments about this request by email: OIRA_submission@omb.eop.gov or fax: 202-395-6881.

Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2018-0002.

FOR FURTHER INFORMATION CONTACT: Charu Krishnan, Consumer Product Safety Commission, 4330 East West Highway, Bethesda, MD 20814; (301) 504-7221, or by email to: CKrishnan@cpsc.gov.

SUPPLEMENTARY INFORMATION:

A. Comments

On March 20, 2018, the CPSC published a notice in the Federal Register announcing the agency's intent to seek approval of a new collection of information on a national in-home survey that will estimate the use and functionality of smoke and CO alarms in households, as well as user hazard perceptions regarding such alarms. (83 FR 12178). CPSC received three comments in response to that notice. Two commenters did not address the survey or any issues related to the survey, but instead, raised concerns about climate change. One commenter, the International Code Council (ICC), supported the information collection. The ICC stated that it promulgates residential and commercial building safety codes and that having reliable data to analyze the scope of use and effectiveness of the detection devices will improve public safety.

Accordingly, after consideration of these comments, CPSC will request approval from OMB for this collection of information.

B. Survey

CPSC has entered into a contract with Eureka Facts to conduct a national in-home survey that will estimate the use and functionality of smoke and CO alarms in households, as well as user hazard perceptions regarding such alarms. The information collected from this survey will provide CPSC updated national estimates regarding the use of smoke alarms and CO alarms in households, based on direct observation of alarm installations. The survey also will help CPSC identify the groups that do not have operable smoke alarms and/or CO alarms and the reasons they do not have such alarms. With this information, CPSC will be able to target its messaging better and improve consumer use and awareness regarding the operability of these alarms. In addition, the survey results will help to inform CPSC's recommendations to voluntary standards groups and state/local jurisdictions regarding their codes, standards, and/or regulations on smoke and CO alarms.

The survey seeks to collect information from 1,185 households within the United States, with an initial group of 50 households that will be processed and analyzed to identify any issues regarding the survey instrument and data collection procedures. The survey will use a mixed-mode, multistage approach to data collection. The data will be collected through two modes: Face-to-face in-home interviews and telephone surveys. The survey instrument will be programmed on Vovici software and will be administered via in-home interviews using a Computer-Assisted Personal Interview (CAPI) format, or by telephone, using a Computer-Assisted Telephone Interview (CATI) format.

Smoke alarms are more prevalent in homes than CO alarms are. Accordingly, during the screening process, if respondents indicate that they have a smoke alarm that may be tested directly, the respondents will be scheduled for an in-home interview for the full survey. However, if the smoke alarm cannot be tested directly because the household does not have a smoke alarm installed, or the smoke alarms are connected to a central alarm system that will notify the police or fire department, the respondent is not eligible for the in-home survey. Instead of the in-home survey, these households would be given a subset of survey questions about safety attitudes and demographics that would be collected over the telephone. For participants eligible for in-home interviews, a two-member survey team will ask household residents questions related to installed smoke and CO alarms. The survey team will then test residents' smoke and CO alarms. If any of the alarms do not work, the survey team will offer to replace the alarms free of charge.

C. Burden Hours

The survey interview will take 20 to 60 minutes to conduct, depending on whether the survey is administered by telephone (about 20 minutes), or by an in-home interview (60 minutes). We estimate the number of survey respondents to be 1,185. We estimate the total annual burden hours for respondents to be 1,422 hours, based on the total time required to respond to the invitation, screener, and the actual survey. The monetized hourly cost is $35.64, as defined by the average total hourly cost to employers for employee compensation for employees across all occupations as of September 2017, reported by the Bureau of Labor Statistics. Accordingly, we estimate the total annual cost burden to all respondents to be $50,680. (1,422 hours × $35.64 = $50,680.). The total cost to the federal government for the contract to design and conduct the survey is $721,773.

Alberta E. Mills,
Secretary, Consumer Product Safety Commission.

[FR Doc. 2018-14140 Filed 6-29-18; 8:45 am]

BILLING CODE P